DEPARTMENT OF HEALTH AND HUMAN SERVICES

Administration for Community Living

Reallotment of FY 2017 Funds

AGENCY: Administration on Intellectual and Developmental Disabilities (AIDD), Administration on Disabilities (AoD), Administration for Community Living (ACL), HHS.

ACTION: Notice of reallotment of FY 2017 funds.

SUMMARY: AIDD intends to reallot funds under authority of the Development Disabilities Assistance and Bill of Rights Act of 2000 which states: “If the Secretary determines that an amount of an allotment to a State for a period (of a fiscal year or longer) will not be required by the State during the period for the purpose for which the allotment was made, the Secretary may reallot the amount.”

AIDD will be reallotting FY 2017 funds awarded to the State Council on Developmental Disabilities (SCDD) and the Protection & Advocacy (P&A) agency located within the Commonwealth of Puerto Rico. This determination is based on the limited reported expenditures and requests for reimbursement over the last several years from the SCDD and P&A in the Commonwealth of Puerto Rico.

The Puerto Rico SCDD will have up to $1.9 million rescinded and proportionately redistributed to the remaining SCDDs. SCDDs that receive FY 2017 realloted funds will have through the end of FY 2018 to obligate the funds and until the end of FY 2019 to liquidate the funds.

The Puerto Rico P&A will have up to $550,000 rescinded and proportionately redistributed to the remaining P&As. P&As that receive the FY 2017 funds will have through the end of FY 2019 to spend the funds.

Realloted funds for both the SCDDs and the P&As must be used according to the terms as outlined in the FY 2017 Notice of Award for each program.

DATES: Funds will be realloted after September 1, 2017 and before September 30, 2017.

ADDRESSES: The reallotment amounts to SCDDs and P&As can be found at https://www.acl.gov/node/110.

FOR FURTHER INFORMATION CONTACT: Andrew Morris, Office of Policy and Development, Center on Policy & Evaluation, Administration for Community Living, 330 C St. SW., Washington, DC 20201. Telephone (202) 795-7408. Email andrew.morris@acl.hhs.gov. Please note the telephone number is not toll free. This document will be made available in alternative formats upon request. Written correspondence can be sent to Administration for Community Living, U.S. Department of Health and Human Services, 330 C St. SW., Washington, DC 20201.

Dated: August 4, 2017.
Melissa Ortiz,
Commissioner, Administration on Disabilities.

[FR Doc. 2017-17195 Filed 8-14-17; 8:45 am]

BILLING CODE 4154-01-P